SMALL BUSINESS ADMINISTRATION

[Disaster Declaration #17899 and #17900; NEVADA Disaster Number NV-00073]

Presidential Declaration of a Major Disaster for Public Assistance Only for the State of Nevada

AGENCY: U.S. Small Business Administration.

ACTION: Notice.

SUMMARY: This is a Notice of the Presidential declaration of a major disaster for Public Assistance Only for the State of Nevada (FEMA-4708-DR), dated 04/27/2023.

Incident: Severe Winter Storms, Flooding, Landslides, and Mudslides.

Incident Period: 03/08/2023 through 03/19/2023.

DATES: Issued on 04/27/2023.

Physical Loan Application Deadline Date: 06/26/2023.

Economic Injury (EIDL) Loan Application Deadline Date: 01/29/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: Notice is hereby given that as a result of the President's major disaster declaration on 04/27/2023, Private Non-Profit organizations that provide essential services of a governmental nature may file disaster loan applications at the address listed above or other locally announced locations.

The following areas have been determined to be adversely affected by the disaster:

Primary Counties: Douglas, Eureka, Lincoln, Lyon, Mineral, Storey

The Interest Rates are:

| Percent
For Physical Damage:
Non-Profit Organizations with Credit Available Elsewhere | 2.375
Non-Profit Organizations without Credit Available Elsewhere | 2.375
For Economic Injury:
Non-Profit Organizations without Credit Available Elsewhere | 2.375

The number assigned to this disaster for physical damage is 17899 B and for economic injury is 17900 0.

(Catalog of Federal Domestic Assistance Number 59008)

Francisco Sánchez, Jr.,
Associate Administrator, Office of Disaster Recovery & Resilience.

[FR Doc. 2023-09480 Filed 5-3-23; 8:45 am]

BILLING CODE 8026-09-P